DEPARTMENT OF EDUCATION

Notice Reopening the Application Period for the Fiscal Year (FY) 2019 Small, Rural School Achievement (SRSA) Program

AGENCY: Office of Elementary and Secondary Education, Department of Education.

ACTION: Notice.

SUMMARY: On March 12, 2019, we published in the Federal Register a notice of application deadline (84 FR 8846) for the FY 2019 SRSA Program application cycle, Catalog of Federal Domestic Assistance (CFDA) number 84.358A. The Secretary is reopening the FY 2019 SRSA application cycle, Catalog of Federal Domestic Assistance (CFDA) number 84.358A, for all eligible LEAs. The Secretary takes this action to allow small, rural LEAs, especially those impacted by recent flooding, additional time to submit their applications.

DATES: Deadline for Transmittal of Applications: May 10, 2019.

FOR FURTHER INFORMATION CONTACT: Mr. Robert Hitchcock, U.S. Department of Education, 400 Maryland Avenue SW, Room 3E-218, Washington, DC 20202. Telephone: (202) 260-1472. Email: reap@ed.gov.

If you use a telecommunications device for the deaf or a text telephone, call the Federal Relay Service, toll free, at 1-800-877-8339.

SUPPLEMENTARY INFORMATION: On March 12, 2019, we published in the Federal Register a notice of application deadline (84 FR 8846) for the FY 2019 SRSA application cycle. This notice reopens the period for transmittal of applications for all SRSA applicants.

All LEAs eligible for FY 2019 SRSA funds must submit an application electronically via Grants.gov by 11:59:59 p.m., Eastern Time, on May 10, 2019.

All other information in the original notice of application, including application submission instructions and requirements, remains the same.

Information about the SRSA Program is available on the Department's website at www2.ed.gov/programs/reapsrsa/contacts.html.

Program Authority: Sections 5211-5212 of the Elementary and Secondary Education Act, as amended, 20 U.S.C. 7345-7345a.

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Frank T. Brogan,
Assistant Secretary for Elementary and Secondary Education.

[FR Doc. 2019-08856 Filed 4-30-19; 8:45 am]

BILLING CODE 4000-01-P